SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: June 1, 2009, through June 30, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued:

1. Chesapeake Appalachia, LLC, Pad ID: Benscoter, ABR-20090601, Auburn Township, Susquehanna County, PA.; Consumptive Use of up to 7.500 mgd; Approval Date: June 2, 2009.

2. Chesapeake Appalachia, LLC, Pad ID: Strom, ABR-20090602, Monroe Township, Bradford County, PA.; Consumptive Use of up to 7.500 mgd; Approval Date: June 2, 2009.

3. Chesapeake Appalachia, LLC, Pad ID: Evanchick, ABR-20090604, Granville Township, Bradford County, PA.; Consumptive Use of up to 7.500 mgd; Approval Date: June 3, 2009.

4. Chesapeake Appalachia, LLC, Pad ID: Vargson, ABR-20090605, Granville Township, Bradford County, PA.; Consumptive Use of up to 7.500 mgd; Approval Date: June 3, 2009.

5. Range Resources Appalachia, LLC, Pad ID: Ogontz 3, ABR-20090606, Cummings Township, Lycoming County, PA.; Consumptive Use of up to 5.000 mgd; Approval Date: June 5, 2009.

6. Range Resources Appalachia, LLC, Pad ID: McWilliams 1, ABR-20090607, Cogan House Township, Lycoming County, PA.; Consumptive Use of up to 5.000 mgd; Approval Date: June 5, 2009.

7. Alta Operating Company, LLC, Pad ID: Ivey Pad Site, ABR-20090608, Forest Lake Township, Susquehanna County, PA.; Consumptive Use of up to 3.000 mgd; Approval Date: June 10, 2009.

8. Fortuna Energy, Inc., Pad ID: Shedden D 13-43, ABR-20090603, Troy Township, Bradford County, PA.; Consumptive Use of up to 3.000 mgd; Approval Date: June 10, 2009.

9. Fortuna Energy, Inc., Pad ID: State Lands 587 Pad #1, ABR-20090609, Ward Township, Tioga County, PA.; Consumptive Use of up to 3.000 mgd; Approval Date: June 16, 2009.

10. Chesapeake Appalachia, LLC, Pad ID: Welles 1, ABR-20090610, Terry Township, Bradford County, PA.; Consumptive Use of up to 7.500 mgd; Approval Date: June 18, 2009.

11. Fortuna Energy, Inc., Pad ID: Williams 41-42, ABR-20090611, Troy Township, Bradford County, PA.; Consumptive Use of up to 3.000 mgd; Approval Date: June 23, 2009.

Authority: Public Law 91-575, 84 Stat. 1509 et seq., 18 CFR Parts 806, 807, and 808.

Dated: July 8, 2009.
Thomas W. Beauduy,
Deputy Director.

[FR Doc. E9-16972 Filed 7-16-09; 8:45 am]

BILLING CODE 7040-01-P